DEPARTMENT OF LABOR

Mine Safety and Health Administration

[OMB Control No. 1219-0016]

Proposed Extension of Information Collection: Ventilation Plan and Main Fan Maintenance Record

AGENCY: Mine Safety and Health Administration, Labor.

ACTION: Request for public comments.

SUMMARY: The Department of Labor (DOL), as part of its continuing effort to reduce paperwork and respondent burden, conducts a pre-clearance consultation program for all information collections, to provide the public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection titled “Ventilation Plan and Main Fan Maintenance Record.”

DATES: All comments must be received on or before November 24, 2025.

ADDRESSES: Comments concerning the information collection requirements of this notice may be sent by any of the methods listed below. Please note that comments received after the deadline will not be considered.

• Federal E-Rulemaking Portal: https://www.regulations.gov. Follow the on-line instructions for submitting comments for docket number MSHA-2025-0055.

• Mail/Hand Delivery: DOL-MSHA, Office of Standards, Regulations, and Variances, 200 Constitution Avenue NW, Room C3522, Washington, DC 20210. Before visiting MSHA in person, call 202-693-9455 to make an appointment.

• MSHA will post all comments as well as any attachments, except for information submitted and marked as confidential, in the docket at https://www.regulations.gov.

FOR FURTHER INFORMATION CONTACT: Jessica D. Senk, Acting Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977 (Mine Act), as amended, 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal and nonmetal (MNM) mines.

The Paperwork Reduction Act of 1995 (PRA) governs paperwork burdens imposed on the public by Federal agencies for using identical questions to collect information from 10 or more persons. The PRA defines paperwork burden in 44 U.S.C. 3502(2) as time, effort, or financial resources expended to generate, maintain, or provide information to or for a Federal agency. Under 44 U.S.C. 3507, the PRA also establishes policies and procedures of information collection for controlling paperwork burdens imposed by Federal agencies on the public, including evaluating public comments.

B. Information Collection

To fulfill its statutory mandate to promote miners' health and safety, MSHA requires the information collected under the information collection request (ICR) titled “Ventilation Plan and Main Fan Maintenance Record.” The information collection is intended to ensure underground MNM mine operators routinely plan, review, and update their ventilation system and maintain main fans properly to avoid fatalities and unhealthy working conditions caused by inadequate ventilation.

Underground MNM mines can present harsh and hostile working environment. The ventilation system is the most vital life support system in underground mining and a properly operating ventilation system is essential for maintaining a safe and healthy working environment. A well planned mine ventilation system is necessary to ensure fresh air is provided to miners at all working places, to control the amounts of harmful airborne contaminants in the mine atmosphere, and to dilute possible accumulation of explosive gases. A regular fan maintenance schedule is necessary to ensure an uninterrupted and vital supply of air.

Burden costs associated with this ICR include:

1. Creating new or updating existing mine ventilation plans; and

2. Developing new or revising existing main fan maintenance schedules.

The associated standards that authorize the collection of information are described below.

1. Creating New or Updating Existing Mine Ventilation Plans

Under 30 CFR 57.8520, the mine operator must prepare a plan of the mine ventilation system in written form. Revisions of the system must be noted and updated annually. The ventilation plan or revisions must be submitted to the District Manager for review and comments upon his written request. The plan must, where applicable, include the following:

(a) The mine name.

(b) The current mine map or schematic or series of mine maps or schematics of an appropriate scale, not greater than five hundred feet to the inch, showing:

(1) Direction and quantity of principal air flows;

(2) Locations of seals used to isolate abandoned workings;

(3) Locations of areas withdrawn from the ventilation system;

(4) Locations of all main, booster and auxiliary fans not shown in paragraph (d) of this standard;

(5) Locations of air regulators and stoppings and ventilation doors not shown in paragraph (d) of this standard;

(6) Locations of overcasts, undercasts and other airway crossover devices not shown in paragraph (d) of this standard;

(7) Locations of known oil or gas wells;

(8) Locations of known underground mine openings adjacent to the mine;

(9) Locations of permanent underground shops, diesel fuel storage depots, oil fuel storage depots, hoist rooms, compressors, battery charging stations and explosive storage facilities. Permanent facilities are those intended to exist for one year or more; and

(10) Significant changes in the ventilation system projected for one year.

(c) Mine fan data for all active main and booster fans including manufacturer's name, type, size, fan speed, blade setting, approximate pressure at present operating point, and motor brake horsepower rating.

(d) Diagrams, descriptions or sketches showing how ventilation is accomplished in each typical type of working place including the approximate quantity of air provided, and typical size and type of auxiliary fans used.

(e) The number and type of internal combustion engine units used underground, including make and model of unit, type of engine, make and model of engine, brake horsepower rating of engine, and approval number.

2. Developing New or Revising Existing Main Fan Maintenance Schedules

Under 30 CFR 57.8525, the main fans in underground MNM mines must be maintained according to either the manufacturer's recommendations or a written periodic schedule adopted by the operator which must be available at the operation upon the request of the Secretary or the Secretary's authorized representative.

II. Desired Focus of Comments

MSHA is soliciting comments concerning the proposed information collection titled “Ventilation Plan and Main Fan Maintenance Record.” MSHA is particularly interested in comments that:

• Evaluate whether the collection of information is necessary for the proper performance of the functions of the Agency, including whether the information has practical utility;

• Evaluate the accuracy of MSHA's estimate of the burden of the information collection, including the validity of the methodology and assumptions used;

• Suggest methods to enhance the quality, utility, and clarity of the information to be collected; and

• Minimize the burden of the information collection on those who are to respond, including through the use of appropriate automated, electronic, mechanical, or other technological collection techniques or other forms of information technology, e.g., permitting electronic submission of responses.

The ICR is available on https://www.regulations.gov. MSHA cautions commenters against providing any information in the submission that should not be publicly disclosed. Full comments, including personal information provided, will be made available on https://www.regulations.gov and https://www.reginfo.gov.

The public may also examine publicly available documents at DOL-MSHA, Office of Standards, Regulations, and Variances, 200 Constitution Avenue NW, Room C3522, Washington, DC 20210. Before visiting MSHA in person, call 202-693-9440 to make an appointment.

Questions about the information collection requirements may be directed to the person listed in the FOR FURTHER INFORMATION section of this notice.

III. Current Actions

This ICR concerns provisions for Ventilation Plan and Main Fan Maintenance Record. MSHA has updated the data with respect to the number of respondents, responses, time burden, and burden costs supporting this ICR from the previous ICR.

Type of Review: Extension, without change, of a currently approved collection.

Agency: Mine Safety and Health Administration.

OMB Number: 1219-0016.

Affected Public: Business or other for-profit entity.

Number of Annual Respondents: 186.

Frequency: On occasion.

Number of Annual Responses: 195.

Annual Time Burden: 4,496 hours.

Respondent or Recordkeeper: $0.

Comments submitted in response to this notice will be summarized and included in the request for Office of Management and Budget approval of the proposed ICR; they will become a matter of public record and be available at https://www.reginfo.gov.

Jessica D. Senk,
Certifying Officer, Mine Safety and Health Administration.

[FR Doc. 2025-18542 Filed 9-24-25; 8:45 am]

BILLING CODE 4510-43-P